DEPARTMENT OF AGRICULTURE

Agricultural Marketing Service

[No. LS-04-03]

Lamb Promotion, Research, and Information: Certification of Organizations for Eligibility To Make Nominations to the Lamb Promotion, Research, and Information Board

AGENCY: Agricultural Marketing Service, USDA.

ACTION: Notice.

SUMMARY: Notice is hereby given that the Department of Agriculture's (USDA) Agricultural Marketing Service (AMS) is accepting applications from State, regional, and national lamb producer, seedstock producer, feeder, and first handler organizations or associations that desire to be certified as eligible to nominate lamb producers, seedstock producers, lamb feeders, or first handlers of lamb or lamb products for appointment to the Lamb Promotion, Research, and Information Board (Board). Previously certified organizations do not need to reapply. To nominate a producer, seedstock producer, feeder, or first handler member to the Board, organizations must first be certified by USDA. Notice is also given that upcoming vacancies are anticipated and that during a period to be established by USDA, nominations will be accepted from eligible organizations.

DATES: Applications for certification must be received by close of business February 17, 2004.

ADDRESSES: Certification form LS-82 as well as information regarding the certification and nomination procedures may be requested from Kenneth R. Payne, Chief; Marketing Programs Branch, Room 2638-S; Livestock and Seed Program; AMS, USDA; STOP 0251; 1400 Independence Avenue, SW.; Washington, DC 20250-0251 or obtained via the Internet at http://www.ams.usda.gov/lsg/mpb/lamb/lambforms.htm.

FOR FURTHER INFORMATION CONTACT: Kenneth R. Payne, Chief, Marketing Programs Branch on (202) 720-1115, via facsimile on (202) 720-1125, or via e-mail at Kenneth.Payne@usda.gov.

SUPPLEMENTARY INFORMATION: The Commodity Promotion, Research, and Consumer Information Act of 1996 (Act) (7 U.S.C. 7411 et seq.) authorizes the establishment and implementation of a lamb promotion, research, and information program. Pursuant to the Act, a proposed Lamb Promotion, Research, and Information Order (Order) was published in the Federal Register on September 21, 2001 (66 FR 48764). The final Order was published in the Federal Register on April 11, 2002 (67 FR 17848). The Order provides for the establishment of a 13-member Board that consists of 6 producers representing regions east and west of the Mississippi River, 3 feeders representing regions east and west of the Mississippi River, 1 seedstock producer, and 3 first handlers appointed by USDA. Of the six producers, two must be located east of the Mississippi River and represent the eastern region; two must be located west of the Mississippi River and represent the western region; while the remaining two can be selected without regard to the geographic location. The feeders cannot all be located in the same geographic region. The duties and responsibilities of the Board are provided under the Order.

The Order provides that USDA shall certify or otherwise determine the eligibility of any State, regional, or national lamb producer, seedstock producer, feeder, or first handler organizations or associations that meets the eligibility criteria established under the Order. Those organizations that meet the eligibility criteria specified under the Order will be certified as eligible to nominate members for appointment to the Board. Those organizations should ensure that the nominees represent the interests of producers, seedstock producers, feeders, and first handlers.

The Order provides that the members of the Board shall serve for terms of 3 years, except that appointments to the initially established Board shall be proportionately for 1-, 2-, and 3-year terms. No person may serve more than two consecutive 3-year terms. USDA will announce when nominations will be due from eligible organizations and when any subsequent nominations are due when a vacancy does or will exist. The following unit/regions have vacancies in early 2005:

Unit/Region | Members
Producer Member: From either Region 1 or Region 2—Must own annually 100 or less head of lambs | 1
Producer Member: From either Region 1 or Region 2—Must own annually more than 500 head of lambs | 1
Feeder Member: From either Region 1 or Region 2—Either less than 5,000 lambs fed annually or 5,000 or more lambs fed annually | 1
First Handler Member | 1

Any eligible producer, seedstock producer, feeder, or first handler organization that is not currently certified and is interested in being certified to nominate producers, seedstock producers, feeders, or first handlers for appointment to the Board, must complete and submit an official “Application for Certification of Organization,” form. That form must be received by close of business February 17, 2004.

Only those organizations that meet the criteria for certification of eligibility specified under § 1280.206(b) under the Order are eligible for certification. In certifying an organization, the following will be considered:

(1) The geographic territory covered by the active membership of the organization;

(2) The nature and size of the active membership of the organization, including the number of active producers, seedstock producers, feeders, or first handlers represented by the organization;

(3) Evidence of stability and permanency of the organization;

(4) Sources from which the operating funds of the organizations are derived;

(5) The functions of the organization; and

(6) The ability and willingness of the organization to further the purpose and objectives of the Act.

In addition, the primary consideration in determining the eligibility of an organization will be:

(1) The membership of the organization consists primarily of producers, seedstock producers, feeders, or first handlers who market or handle a substantial quantity of lamb or lamb products; and

(2) A primary purpose of the organization is in the production or marketing of lamb and lamb products.

All certified organizations will be notified in writing of the beginning and ending dates of the established nomination period and will be provided with required nomination forms.

The information collection requirements referenced in this notice has been approved by the Office of Management and Budget (OMB) under the provisions of the Paperwork Reduction Act of 1995 (44 U.S.C., Chapter 35) and have been assigned OMB No. 0581-0198, except Board nominees information form has been assigned OMB No. 0505-0001.

Authority: 7 U.S.C. 7411-7425.

Dated: January 9 2004.
A. J. Yates,
Administrator, Agricultural Marketing Service.

[FR Doc. 04-845 Filed 1-14-04; 8:45 am]

BILLING CODE 3410-02-P